SMALL BUSINESS ADMINISTRATION

13 CFR Parts 120, 121, 124, 126 and 134

RIN 3245-AF64

Agency Titling Procedure Revision; Nomenclature Changes

AGENCY: U.S. Small Business Administration.

ACTION: Notice of correcting amendments.

SUMMARY: The U.S. Small Business Administration (SBA) is amending its regulations to correct omissions and errors in its final rule titled Agency Titling Procedure Revision; Nomenclature Changes which appeared in the Federal Register on August 30, 2007. In the Agency Titling Procedure Revision rule SBA amended its regulations to change the titles of certain SBA officials to conform to titles that are commonly used across the Federal Government. However, several references to SBA titles were inadvertently excluded in the original rule and there were some name changes that were not properly made. This notice will correct the improperly made changes and include the omitted title changes.

DATES: Effective Dates: These corrections are effective on September 4, 2009.

FOR FURTHER INFORMATION CONTACT: Napoleon Avery, Chief Human Capital Officer, Office of Human Capital Management, Office of Management and Administration, Small Business Administration, 409 3rd Street, SW., Washington, DC 20416. Tel: (202) 205-6780 and e-mail: napolean.avery@sba.gov.

SUPPLEMENTARY INFORMATION: The SBA published a final rule in the Federal Register on August 30, 2007, (72 FR 50037), which amended its regulations to reflect the new titles of certain SBA officials. The new titles conform SBA's management titles with those commonly used across the Federal Government. No changes were made to the responsibilities, reporting relationship, or other regulatory duties of the SBA officials whose titles are changed.

However, several SBA titles were inadvertently left unchanged. In addition, several title changes were improperly made and need to be corrected. This Notice of Correction will incorporate these additional title changes and will correct the improperly made changes.

Savings Provision

This Notice of Correcting Amendment shall constitute notice that all references to the old titles cited in SBA rules affected by this Notice in any documents, statements, or other communications, in any form or media, and whether made before, on, or after the effective date of this Notice, shall be deemed to be references to the new titles. Any actions undertaken in the name of or on behalf of these SBA officials under the old title, whether taken before, on, or after the effective date of this Notice, shall be deemed to have been taken in the name of the SBA official under the new title.

List of Subjects

13 CFR Part 120

Community development, Loan programs—business, Reporting and recordkeeping requirements, Small businesses.

13 CFR Part 121

Administrative practice and procedure, Government procurement, Government property, Grant programs—business, Loan programs—business, Reporting and recordkeeping requirements, Small business.

13 CFR Part 124

Administrative practice and procedure, Government procurement, Minority businesses, Reporting and recordkeeping requirements, Technical assistance.

13 CFR Part 126

Administrative practice and procedure, Government procurement, Penalties, Reporting and recordkeeping requirements, Small businesses.

13 CFR Part 134

Administrative practice and procedure, Claims, Organization and functions (Government agencies).

For the reasons set forth in the preamble, 13 CFR parts 120, 121, 124, 126, and 134 are amended as follows:

PART 120—BUSINESS LOANS

1. The authority citation for part 120 continues to read as follows:

Authority: 15 U.S.C. 634(b)(6), (b)(7), (b)(14), (h), and note, 636(a), (h) and (m), 650, 687(f), 696(3), and 697(a) and (e); Pub. L. 111-5, 123 Stat. 115.

§ 120.211 [Amended]

2. Section 120.211 is amended in paragraph (b) by removing “Director, Office of Business Development” and adding in its place “Associate Administrator for Business Development”.

§ 120.376 [Amended]

3. Section 120.376 is amended in paragraph (a) by removing “Director, Office of Business Development (MED)” and adding in its place “Associate Administrator for Business Development”.

§ 120.433 [Amended]

4. Section 120.433 is amended in paragraph (a) by removing “AA/FA” and adding in its place “D/FA”.

§ 120.472 [Amended]

5. Section 120.472, introductory text, is amended by removing “AA/FA” and adding in its place “D/FA”.

§ 120.473 [Amended]

6. Section 120.473 is amended in paragraphs (a) and (b) by removing “AA/FA” and adding in its place “D/FA”.

§ 120.540 [Amended]

7. Section 120.540 is amended in paragraph (g) by removing “AA/FA” each time it appears, and adding in its place “D/FA”.

§ 120.542 [Amended]

8. Section 120.542 is amended in paragraphs (d) and (e) by removing “AA/FA” each time it appears, and adding in its place “D/FA”.

PART 121—SMALL BUSINESS SIZE REGULATIONS

The authority citation for part 121 continues to read as follows:

Authority: 15 U.S.C. 632, 634(b)(6), 636(b), 637(a), 644, and 662(5); and Pub. L. 105-135, sec. 401 et seq., 111 Stat. 2592.

§ 121.1001 [Amended]

9. Section 121.1001 is amended as follows:

a. in paragraphs (b)(2)(i)(B) and (b)(7)(ii) by removing “Assistant Administrator of the Division of Program Certification and Eligibility” and adding in its place “Director of the Division of Program Certification and Eligibility”.

b. in paragraphs (a)(2)(iii), (a)(5)(iii), (a)(7)(iii), (b)(2)(i)(B), (b)(2)(ii)(C), and (b)(7)(ii) by removing “Director, Office of Business Development” and adding in its place “Associate Administrator for Business Development”.

§ 121.1008 [Amended]

10. Section 121.1008 is amended in paragraph (a) by removing “Director, Office of Business Development” and adding in its place “Associate Administrator for Business Development”.

§ 121.1103 [Amended]

11. Section 121.1103 is amended in paragraph (a) by removing “Director, Office of Business Development” and adding in its place “Associate Administrator for Business Development”.

PART 124—8(a) BUSINESS DEVELOPMENT/SMALL DISADVANTAGED BUSINESS STATUS DETERMINATIONS

12. The authority citation for Part 124 continues to read as follows:

Authority: 15 U.S.C. 634(b)(6), 636(j), 637(a), 637(d) and Pub. L. 99-661, sec 1207, Pub. L. 100-656, Pub. L. 101-37, Pub. L. 101-574, and 42 U.S.C. 9815.

§ 124.103 [Amended]

13. Section 124.103 is amended in paragraph (b)(3) by removing “Director, Office of Business Development” and adding in its place “Associate Administrator for Business Development (AA/BD)”.

§ 124.105 [Amended]

14. Section 124.105 is amended in paragraph (i)

a. by removing “Director, Office of Business Development” each time it appears, and adding in its place “AA/BD”.

b. by removing “AA/8(a)BD” and adding in its place “AA/BD”.

§ 124.106 [Amended]

15. Section 124.106 is amended in paragraphs (e)(2) and (3) by removing “Director, Office of Business Development” each time it appears, and adding in its place “AA/BD”.

§ 124.108 [Amended]

16. Section 124.108 is amended in paragraphs (a)(1) and (2)

a. by removing “Director, Office of Business Development” each time it appears, and adding in its place “AA/BD”.

b. by removing “AA/8(a)BD” and adding in its place “AA/BD”.

§ 124.109 [Amended]

17. Section 124.109 is amended in paragraph (b) by removing “Director, Office of Business Development” and adding in its place “AA/BD”.

§ 124.204 [Amended]

18. Section 124.204 is amended in paragraphs (a), (e), and (f) by removing “Director, Office of Business Development” each time it appears, and adding in its place “AA/BD”.

§ 124.205 [Amended]

19. Section 124.205 is amended in paragraph (a), (b) and (c) by removing “AA/8(a)BD” each time it appears, and adding in its place “AA/BD”.

§ 124.206 [Amended]

20. Section 124.206 is amended in paragraphs (b) and (d) by removing “Director, Office of Business Development” each time it appears, and adding in its place “AA/BD”.

§ 124.304 [Amended]

21. Section 124.304 is amended in paragraphs (c), (d), and (e) by removing ”Director, Office of Business Development” and adding in its place “AA/BD”.

§ 124.305 [Amended]

22. Section 124.305 is amended in paragraphs (a), (d), and (e) by removing “Director, Office of Business Development” each time it appears, and adding in its place “AA/BD”.

§ 124.503 [Amended]

23. Section 124.503 is amended in paragraph (a)(5) by removing “Director, Office of Business Development” each time it appears, and adding in its place “AA/BD”.

§ 124.504 [Amended]

24. Section 124.504 is amended in paragraph (a) by removing “Director, Office of Business Development” and adding in its place “AA/BD”.

§ 124.506 [Amended]

25. Section 124.506 is amended in paragraph (c) introductory text, and in paragraphs (c), (c)(2), (c)(3) and (d) by removing “Director, Office of Business Development” and adding in its place “AA/BD”.

§ 124.509 [Amended]

26. Section 124.509 is amended in paragraph (e)(1) by removing “Director, Office of Business Development” and adding in its place “AA/BD”.

§ 124.517 [Amended]

27. Section 124.517 is amended in paragraph (d)(1) by removing “Director, Office of Business Development” and adding in its place “AA/BD”.

§ 124.520 [Amended]

28. Section 124.520 is amended in paragraphs (b)(2) and (e)(2) by removing “Director, Office of Business Development” and adding in its place “AA/BD”.

§ 124.1008 [Amended]

29. Section 124.1008 is amended in paragraph (a) by removing “Associate Administrator for Government and Business Development” and adding in its place “Associate Administrator for Government Contracting and Business Development”.

§ 124.1009 [Amended]

30. Section 124.1009 is amended by removing “AA/SDBCE” and adding in its place “DC/SDBCE”.

§ 124.1013 [Amended]

31. Amend § 124.1013 as follows:

a. in paragraphs (h)(1) and (2) by removing “AA/SDBCE” and adding in its place “DC/SDBCE”; and

b. in paragraphs (h)(1) and (2) by removing “AA/GC&BD” each time it appears, and adding in its place “DAA/GC&BD”.

PART 126—HUBZONE PROGRAM

32. The authority citation for Part 126 continues to read as follows:

Authority: 15 U.S.C. 632(a), 632(j), 632(p) and 657a.

§ 126.103 [Amended]

33. Amend Section 126.103 as follows:

a. by removing the definition ADA/GC&BD and replacing with “DAA/GC&BD means SBA's Deputy Associate Administrator for Government Contracting and Business Development”.

b. by removing the definition of “D/BD” and replacing with “AA/BD means SBA's Associate Administrator for Business Development”.

c. by removing “AA/HUB” in the last sentence of the definition of “County unemployment rate” and adding in its place “D/HUB”.

d. by removing “AA/HUB” in the last sentence of the definition of “Statewide average unemployment rate” and adding in its place “D/HUB”.

§ 126.606 [Amended]

34. Section 126.606 is amended by removing “D/BD” and adding in its place “AA/BD”.

§ 126.803 [Amended]

35. Section 126.803 is amended in paragraph (d) by removing “AA/GC&BD” and adding in its place “AA/GC&BD, or designee”.

§ 126.805 [Amended]

36. Amend § 126.805 as follows:

a. in paragraphs (a), (b) and (h) by removing “ADA/GC&BD” each time it appears, and adding in its place “AA/GC&BD, or designee”; and

b. in paragraphs (e)(1), (e)(2) and (f) by removing “AA/HUB” and adding in its place “D/HUB”.

PART 134—RULES OF PROCEDURE GOVERNING CASES BEFORE THE OFFICE OF HEARINGS AND APPEALS

37. The authority citation for part 134 continues to read as follows:

Authority: 5 U.S.C. 504; 15 U.S.C. 632, 634(b)(6), 637(a), 648(l), 656(i), and 687(c); E.O. 12549, 51 FR 6370, 3 CFR, 1986 Comp., p. 189.

§ 134.302 [Amended]

38. Section 134.302 is amended in paragraph (b) by removing “Director, Office of Business Development” and adding in its place “Associate Administrator for Business Development”.

§ 134.403 [Amended]

39. Section 134.403 is amended in paragraphs (a) and (b) by removing “Director, Office of Business Development” and adding in its place “Associate Administrator for Business Development”.

§ 134.406 [Amended]

40. Section 134.406 is amended in paragraph (e) by removing “Director, Office of Business Development” each time it appears, and adding in its place “Associate Administrator for Business Development”.

Darryl Hairston,
Associate Administrator, Office of Management and Administration.

[FR Doc. E9-21363 Filed 9-3-09; 8:45 am]

BILLING CODE 8025-01-P